DEPARTMENT OF THE INTERIOR

Bureau of Land Management

[NV-040-5101-ER-F851; N-79742]

Notice of Availability of Draft Environmental Impact Statement for the Kane Springs Valley Groundwater Development Project, Nevada

AGENCY: Lead Agency—Bureau of Land Management, Interior; Cooperating Agencies—U.S. Fish and Wildlife Service, Interior; State of Nevada Department of Wildlife; Moapa Valley Water District, Overton, Nevada.

ACTION: Notice of availability.

SUMMARY: In accordance with the National Environmental Policy Act of 1969 (42 U.S.C. 4321 et seq.); the Federal Land Policy and Management Act of 1976 (43 U.S.C. 1701 et seq.), as amended; and the Council on Environmental Quality regulations (40 CFR parts 1500-1508), the Nevada Bureau of Land Management (BLM) has prepared a draft environmental impact statement (DEIS) to consider whether or not to grant a right-of-way for groundwater development facilities. This notice announces the opening of the comment period on the DEIS.

DATES: The Kane Springs Valley Groundwater Development Project DEIS will be available for review for 60 calendar days from the date the EPA publishes this Notice of Availability in the Federal Register. The BLM intends to hold four public meetings in Nevada during the 60-day comment period, one each in Alamo, Pioche, Carson City and Las Vegas. The BLM will announce all public meeting times and locations at least 15 days in advance through public notices, media news releases, or mailings. In addition, information on public meetings may be posted on the Internet at http://www.nv.blm.gov.

ADDRESSES: Copies of the DEIS are available upon request from the BLM Nevada State Office, 1340 Financial Blvd., P.O. Box 12000, Reno NV 89520, phone 775-861-6681 or e-mail to: nvgwprojects@blm.gov. You may request either a hard copy or a computer disc (CD). The document will be available electronically on the following Web site: http://www.nv.blm.gov. Copies of the DEIS will be available for public inspection at the following locations:

• Bureau of Land Management, Nevada State Office, 1340 Financial Blvd, Reno, Nevada.

• Bureau of Land Management, Ely Field Office, 702 North Industrial Way, Ely, Nevada.

To receive full consideration, comments must be postmarked no later than the last day of the written comment period. (The last day of the written comment period may be identified at the Internet address above, after publication of the EPA Notice of Availability in the Federal Register.)

You may submit comments on the DEIS using any of the following methods:

• Mail: Penny Woods, Project Manager, 1340 Financial Blvd, P.O. Box 12000, Reno, NV 89520.

• Fax: 775-861-6689.

• E-mail: nvgwprojects@blm.gov.

All public comments, including the names and mailing addresses of respondents, will be available for public review at the Nevada State Office in Reno, Nevada during public room hours from 9 a.m. to 4:30 p.m., Monday through Friday, except Federal holidays, and may be published as part of the Final EIS. Before including your address, telephone number, email address, or other personal identifying information in your comment, be advised that your entire comment—including your personal identifying information—may be made publicly available at any time. While you can ask in your comment to withhold from public review your personal identifying information, we cannot guarantee that we will be able to do so.

FOR FURTHER INFORMATION CONTACT: Penny Woods, Project Manager, BLM Nevada State Office, P.O. Box 12000, Reno NV 89520-0006, telephone 775-861-6466. Requests for information may be sent electronically to nvgwprojects@blm.gov with “Kane Springs Information Request” in the subject line.

SUPPLEMENTARY INFORMATION: The DEIS describes and analyzes a proposal for groundwater development facilities in the Kane Springs Valley submitted by the Lincoln County Water District (LCWD, or Applicant). The DEIS assesses the proposal submitted by LCWD, an alternative alignment (Alternative 1), and the no action alternative. Under the Proposed Action, the Applicant would develop and convey groundwater in Kane Springs Valley to private land for community development purposes in Coyote Springs Valley. The volume of water to be transported through the proposed facilities could be up to 5,000 acre-feet per year.

The proposed project would be located in unincorporated portions of southwestern Lincoln County, Nevada, and consists of a 13.2 mile pipeline, seven production wells, water storage tanks, a 12.5 kV transmission line, and a fiber optic line.

The water wells would be primarily located within or immediately adjacent to the utility corridor established by the Lincoln County Conservation, Recreation and Development Act of 2004—Public Act 108-424 (LCCRDA). A portion of the electrical/communication lines would be constructed outside of the LCCRDA corridor on private lands. The 13.2 mile-long water transmission pipeline (up to 24-inch diameter), and lateral pipelines (up to 12-inch diameter) would connect the transmission pipeline to the production wells. A 50,000 gallon forebay tank would be sited adjacent to the existing well and used to normalize flow pressures in the system as well as provide storage for secondary lifting if required. A 700,000 gallon terminal storage tank would be constructed on private lands at the northern boundary of the development area.

Associated ancillary facilities would include overhead distribution power lines, buried fiber optic lines, access roads, and temporary laydown/storage areas. The electric and communication lines would be placed in the permanent right-of-way easement to provide power and communication for the project facilities. Depending on final well siting, access roads approximately 12 feet wide may be needed from the Kane Springs Road to each well site. Temporary laydown/storage areas up to 2 acres in size would be spaced approximately 0.5 miles apart along the construction right-of-way.

The proposed width of the permanent right-of-way for the transmission pipeline and lateral pipelines is 60 feet. A temporary right-of-way to accommodate construction activities would be 75 feet wide.

Scoping of the project occurred from March 31 through May 1, 2006. Comments were received in the following broad categories: NEPA process (38%), social resources (22%) and physical/natural resources (40%).

The DEIS addresses the following issues identified during scoping: NEPA Process (consultation/coordination, proposal description, alternatives, connected actions/cumulative impacts, and data needs/validity); social resources (aesthetics, cultural resources, land use, recreation, and socioeconomic resources); and physical/natural resources (air quality, biological resources, geology and water resources).

The key issues identified by individuals, groups and governmental entities include water supply and use, competing or conflicting land use, and cumulative impacts and connected actions.

A map of the proposed project is available for viewing at the Bureau of Land Management State Office at 1340 Financial Boulevard, Reno, Nevada, and the Ely Field Office, 702 North Industrial Way, Ely, Nevada.

Amy Lueders,
Associate State Director.

[FR Doc. E7-11807 Filed 6-21-07; 8:45 am]

BILLING CODE 4310-HC-P